DEPARTMENT OF STATE

[Public Notice: 11370]

In the Matter of the Designation of Islamic State of Iraq and Syria—Mozambique (and Other Aliases) as a Foreign Terrorist Organization

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Islamic State of Iraq and Syria—Mozambique, also known as ISIS-Mozambique, also known as Islamic State—Mozambique, also known as Ansar al-Sunna, also known as Helpers of Tradition, also known as Ahl al-Sunna wa al-Jamaa, also known as Adherents to the Traditions and the Community, also known as al-Shabaab in Mozambique, also known as Islamic State Central Africa Province, also known as Wilayah Central Africa, also known as Ansaar Kalimat Allah, also known as Supporters of the Word of Allah.

Therefore, I hereby designate the aforementioned organization and its aliases as a foreign terrorist organization pursuant to section 219 of the INA.

This determination shall be published in the Federal Register.

Authority: 8 U.S.C. 1189.

Dated: March 1, 2021.
Antony J. Blinken,
Secretary of State.

[FR Doc. 2021-04919 Filed 3-10-21; 8:45 am]

BILLING CODE 4710-AD-P